DEPARTMENT OF HEALTH AND HUMAN SERVICES

Centers for Disease Control and Prevention

[30 Day-19-0728]

Agency Forms Undergoing Paperwork Reduction Act Review

In accordance with the Paperwork Reduction Act of 1995, the Centers for Disease Control and Prevention (CDC) has submitted the information collection request titled National Notifiable Diseases Surveillance System to the Office of Management and Budget (OMB) for review and approval. CDC previously published a “Proposed Data Collection Submitted for Public Comment and Recommendations” notice on June 13, 2018 to obtain comments from the public and affected agencies. CDC received 2 comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

National Notifiable Diseases Surveillance System (OMB Control Number: 0920-0728, Exp. Date: February 28, 2021)—Revision—Center for Surveillance, Epidemiology and Laboratory Services (CSELS), Centers for Disease Control and Prevention (CDC).

Background and Brief Description

The Public Health Services Act (42 U.S.C. 241) authorizes CDC to disseminate nationally notifiable condition information. The National Notifiable Diseases Surveillance System (NNDSS) is based on data collected at the state, territorial and local levels as a result of legislation and regulations in those jurisdictions that require health care providers, medical laboratories, and other entities to submit health-related data on reportable conditions to public health departments. These reportable conditions, which include infectious and non-infectious diseases, vary by jurisdiction depending upon each jurisdiction's health priorities and needs. Infectious disease agents and environmental hazards often cross geographical boundaries. Each year, the Council of State and Territorial Disease Epidemiologists (CSTE), supported by CDC, determines which reportable conditions should be designated nationally notifiable or under standardized surveillance and voluntarily submitted to CDC so that information can be shared across jurisdictional boundaries and surveillance and prevention and control activities can be coordinated at regional and national levels.

CDC requests a three-year approval for this Revision which includes (1) receipt of case notification data for Candida auris (C. auris) which is now nationally notifiable; (2) receipt of case notification data and disease-specific data elements for Carbapenemase-Producing Carbapenem-Resistant Enterobacteriaceae (CP-CRE) which is now nationally notifiable; (3) receipt of case notification data and disease-specific data elements for S. Paratyphi Infection which is now nationally notifiable; (4) renaming Typhoid Fever to “S. Typhi Infection” on the List of Nationally Notifiable Conditions; (5) receipt of case notification data and disease-specific data elements for Carbon Monoxide (CO) Poisoning; (6) receipt of case notification data and disease-specific data elements for Tuberculosis (TB) Disease; (7) receipt of case notification data and disease-specific data elements for Latent TB Infection which is now under standardized surveillance; (8) receipt of case notification data for Respiratory Syncytial Virus (RSV)-Associated Mortality which is now under standardized surveillance; (9) receipt of disease-specific data elements for Shiga Toxin-Producing Escherichia coli (STEC), Salmonellosis, Shigellosis, Campylobacteriosis, Cryptosporidiosis, Cyclosporiasis, Cholera, Vibriosis, S. Typhi Infection, S. Paratyphi Infection, Lyme Disease, Invasive Haemophilus influenzae Disease, Meningococcal Disease, Invasive Pneumococcal Disease, Psittacosis, Legionellosis, Tickborne Rickettsial Diseases (TBRD), and Hepatitis; and (10) the extension of the pilot period by two years for receiving sexual orientation and gender identity (SO/GI) data elements for sexually transmitted diseases (STD).

The burden estimates include the number of hours that the public health department uses to process and send case notification data from their jurisdiction to CDC. Specifically, the burden estimates include separate burden hours incurred for automated and non-automated transmissions, separate weekly burden hours incurred for modernizing surveillance systems as part of NNDSS Modernization Initiative (NMI) implementation, separate burden hours incurred for annual data reconciliation and submission, and separate one-time burden hours incurred for the addition of new diseases and data elements. These estimates are based on information from CDC employees that manage the NMI effort and conduct site visits to provide technical assistance to help the public health departments modernize their surveillance systems. The estimated annual burden is 19,527 hours.

Estimated Annualized Burden Hours
Type of respondents | Form name | Number of respondents | Number of responses per respondent | Average burden per response (in hours)
States | Weekly (Automated) | 50 | 52 | 20/60
States | Weekly (Non-automated) | 10 | 52 | 2
States | Weekly (NMI Implementation) | 50 | 52 | 4
States | Annual | 50 | 1 | 75
States | One-time Addition of Diseases and Data Elements | 50 | 1 | 27
Territories | Weekly (Automated) | 1 | 52 | 20/60
Territories | Weekly, Quarterly (Non-automated) | 5 | 56 | 20/60
Territories | Weekly (NMI Implementation) | 5 | 52 | 4
Territories | Annual | 5 | 1 | 5
Territories | One-time Addition of Diseases and Data Elements | 1 | 1 | 2
Freely Associated States | Weekly, Quarterly (Non-automated) | 3 | 56 | 20/60
Freely Associated States | Annual | 3 | 1 | 5
Cities | Weekly (Automated) | 2 | 52 | 20/60
Cities | Weekly (Non-automated) | 2 | 52 | 2
Cities | Weekly (NMI Implementation) | 2 | 52 | 4
Cities | Annual | 2 | 1 | 75
Cities | One-time Addition of Diseases and Data Elements | 2 | 1 | 27

Jeffrey M. Zirger,
Acting Lead, Information Collection Review Office, Office of Scientific Integrity, Office of Science, Centers for Disease Control and Prevention.

[FR Doc. 2018-24968 Filed 11-14-18; 8:45 am]

BILLING CODE 4163-18-P